DEPARTMENT OF COMMERCE

International Trade Administration

[A-570-979]

Crystalline Silicon Photovoltaic Cells, Whether or Not Assembled Into Modules, From the People's Republic of China: Preliminary Determination Correction

AGENCY: Import Administration, International Trade Administration, Department of Commerce.

DATES: Effective Date: June 25, 2012.

SUMMARY: On May 25, 2012, the Department of Commerce (the “Department”) published its notice of preliminary determination in the antidumping duty investigation of crystalline silicon photovoltaic cells, whether or not assembled into modules (“solar cells”), from the People's Republic of China (“PRC”). The Department received comments from Delsolar Co., Ltd. and DelSolar (Wujiang) Ltd. (collectively, “DelSolar”) and JinkoSolar International Limited (“Jinko”) on May 22 and 25, 2012, respectively, concerning errors that the Department made with respect to the names of these companies in the table in the “Preliminary Determination” section in the solar cells from the PRC preliminary determination notice.

FOR FURTHER INFORMATION CONTACT: Howard Smith, Jeffrey Pedersen, Krisha Hill, or Drew Jackson, AD/CVD Operations, Office 4, Import Administration, International Trade Administration, U.S. Department of Commerce, 14th Street and Constitution Avenue NW., Washington, DC 20230; telephone: (202) 482-5193, (202) 482-2769, (202) 482-4037, or (202) 482-4406, respectively.

Correction

In the Federal Register notice Crystalline Silicon Photovoltaic Cells, Whether or Not Assembled Into Modules, From the People's Republic of China: Preliminary Determination of Sales at Less Than Fair Value, Postponement of Final Determination and Affirmative Preliminary Determination of Critical Circumstances, 77 FR 31309 (May 25, 2012), under the section entitled “Preliminary Determination,” we incorrectly identified the producer “DelSolar (Wujiang) Ltd.” as “Delsolar Co., Ltd.” Additionally, the Department incorrectly placed a space between “Jinko” and “Solar” in the exporter name “JinkoSolar International Limited.” The exporter-producer combinations involving these companies should have been listed in the preliminary determination notice as follows:

Exporter | Producer
Delsolar Co., Ltd | DelSolar (Wujiang) Ltd.
JinkoSolar International Limited | Jinko Solar Co., Ltd.

We will revise the cash deposit instructions that were issued to U.S. Customs and Border Protection for the preliminary determination accordingly. This correction notice is published in accordance with section 777(i) of the Tariff Act of 1930, as amended.

Dated: June 19, 2012.
Christian Marsh,
Deputy Assistant Secretary for Antidumping and Countervailing Duty Operations.

[FR Doc. 2012-15434 Filed 6-22-12; 8:45 am]

BILLING CODE 3510-DS-P